DEPARTMENT OF DEFENSE

Office of the Secretary

Defense Business Board; Notice of Federal Advisory Committee Meeting

AGENCY: DoD.

ACTION: Meeting notice.

SUMMARY: The Department of Defense is publishing this notice to announce the following Federal advisory committee meeting of the Defense Business Board. This meeting is open to the public.

DATES: The public meeting of the Defense Business Board (“the Board”) will be held on Thursday, July 23, 2015. The meeting will begin at 1:30 p.m. and end at 3:15 p.m. (Escort required; see guidance in the SUPPLEMENTARY INFORMATION section, “Public's Accessibility to the Meeting.”)

ADDRESSES: Room 3E863 in the Pentagon, Washington, DC (Escort required; See guidance in the SUPPLEMENTARY INFORMATION section, “Public's Accessibility to the Meeting.”)

FOR FURTHER INFORMATION CONTACT: The Board's Designated Federal Officer is Marcia Moore, Defense Business Board, 1155 Defense Pentagon, Room 5B1088A, Washington, DC 20301-1155, marcia.L.moore12.civ@mail.mil, 703-695-7563. For meeting information please contact Mr. Steven Cruddas, Defense Business Board, 1155 Defense Pentagon, Room 5B1088A, Washington, DC 20301-1155, steven.m.cruddas.ctr@mail.mil, (703) 697-2168. For submitting written comments or questions to the Board, send via email to mailbox address: osd.pentagon.odam.mbx.defense-business-board@mail.mil.

SUPPLEMENTARY INFORMATION: This meeting is being held under the provisions of the Federal Advisory Committee Act of 1972 (5 U.S.C., Appendix, as amended), the Government in the Sunshine Act of 1976 (5 U.S.C. 552b, as amended), and 41 CFR 102-3.150.

Purpose of the Meeting: The Board will hear an update from the Task Group on “Best Practices for Real Property Management.” The Board will also deliberate the findings and recommendations from the Task Group on “Fostering an Innovative Culture through Corporate Engagement and Partnership.”

The mission of the Board is to examine and advise the Secretary of Defense on overall DoD management and governance. The Board provides independent advice which reflects an outside private sector perspective on proven and effective best business practices that can be applied to DoD.

Availability of Materials for the Meeting: A copy of the agenda and the terms of reference for each Task Group study may be obtained from the Board's Web site at http://dbb.defense.gov/meetings. Copies will also be available at the meeting.

Meeting Agenda:

1:30 p.m.-1:40 p.m.—Opening remarks

1:40 p.m.-2:00 p.m.—Task Group Update on “Best Practices for Real Property Management.”

2:00 p.m.-3:15 p.m.—Task Group Out-brief and Board Deliberations on “Fostering an Innovative Culture through Corporate Engagement and Partnership.”

If time permits, the Board will hear oral comments. Written public comments are strongly encouraged.

Public's Accessibility to the Meeting: Pursuant to 5 U.S.C. 552b and 41 CFR 102-3.140 through 102-3.165, and the availability of space, this meeting is open to the public. Seating is limited and is on a first-come basis. All members of the public who wish to attend the public meeting must contact Mr. Steven Cruddas at the number listed in the FOR FURTHER INFORMATION CONTACT section no later than 12:00 p.m. on Thursday, July 16, 2015 to register and make arrangements for a Pentagon escort, if necessary. Public attendees requiring escort should arrive at the Pentagon Metro Entrance with sufficient time to complete security screening no later than 1:00 p.m. on July 23. To complete security screening, please come prepared to present two forms of identification and one must be a pictured identification card.

Special Accommodations: Individuals requiring special accommodations to access the public meeting should contact Mr. Cruddas at least five (5) business days prior to the meeting so that appropriate arrangements can be made.

Procedures for Providing Public Comments

Pursuant to 41 CFR 102-3.105(j) and 102-3.140, and section 10(a)(3) of the Federal Advisory Committee Act of 1972, the public or interested organizations may submit written comments to the Board about its mission and topics pertaining to this public meeting.

Written comments should be received by the DFO at least five (5) business days prior to the meeting date so that the comments may be made available to the Board for their consideration prior to the meeting. Written comments should be submitted via email to the email address for public comments given in the FOR FURTHER INFORMATION CONTACT section in either Adobe Acrobat or Microsoft Word format. Please note that since the Board operates under the provisions of the Federal Advisory Committee Act, as amended, all submitted comments and public presentations will be treated as public documents and will be made available for public inspection, including, but not limited to, being posted on the Board's Web site.

Dated: July 1, 2015.
Aaron Siegel,
Alternate OSD Federal Register Liaison Officer, Department of Defense.

[FR Doc. 2015-16630 Filed 7-7-15; 8:45 am]

BILLING CODE 5001-06-P